DEPARTMENT OF LABOR

Employment and Training Administration

[TA-W-62,064]

Pfizer, Inc., Pilot Plant, Kalamazoo, MI; Notice of Termination of Investigation

Pursuant to section 221 of the Trade Act of 1974, as amended, an investigation was initiated on August 29, 2007 in response to a worker petition filed by a state workforce representative on behalf of workers of Pfizer, Inc, Pilot Plant, Kalamazoo, Michigan.

The petitioning group of workers is covered by an active certification (TA-W-59,828) which expires on October 8, 2008. Consequently, further investigation in this case would serve no purpose, and the investigation has been terminated.

Signed at Washington, DC, this 9th day of November, 2007.
Richard Church,
Certifying Officer, Division of Trade Adjustment Assistance.

[FR Doc. E7-22748 Filed 11-20-07; 8:45 am]

BILLING CODE 4510-FN-P